DEPARTMENT OF HOMELAND SECURITY

Bureau of Customs and Border Protection

19 CFR Parts 4, 12, 18, 101, 103, 113, 122, 123, 141, 143, 149 and 192

[USCBP-2007-0077]

RIN 1651-AA70

Importer Security Filing and Additional Carrier Requirements; Correction

AGENCY: Customs and Border Protection, Department of Homeland Security.

ACTION: Notice of proposed rulemaking; correction.

SUMMARY: Customs and Border Protection (CBP) published a Notice of Proposed Rulemaking on January 2, 2008, in the Federal Register, which proposed new information submission requirements for importers and carriers pertaining to cargo before the cargo is brought to the United States by vessel. That document contained two errors in the “Addresses” section regarding the docket number and the name of the CBP Office. To ensure that the public has the correct information for submitting comments on this proposed rule, this document provides those corrections.

DATES: This correction is effective on January 8, 2008. The comment deadline for the proposed rule published at 73 FR 90 remains March 3, 2008.

FOR FURTHER INFORMATION CONTACT: Richard Di Nucci, Office of Field Operations, (202) 344-2513.

SUPPLEMENTARY INFORMATION: On January 2, 2008, Customs and Border Protection (CBP) requested public comment on the Notice of Proposed Rulemaking for Importer Security Filing and Additional Carrier Requirements, as published in the Federal Register on the same date. Since CBP anticipates receiving public comment on that document, it is necessary to ensure that the public has the correct information for submitting comments to www.regulations.gov. This document corrects the two errors in the “Addresses” section of that document, as follows.

1. In the Federal Register of January 2, 2008, in FR Doc. E7-25306, on page 90, beginning in the first column, first bullet point of the “Addresses” section, please correct this section by removing the following language in the final line, “Dept: [INSERT DOCKET NUMBER].” and adding, in its place, the applicable docket number, to read:

• Federal eRulemaking Portal: http://www.regulations.gov. Follow the instructions for submitting comments via docket number USCBP-2007-0077.

2. In the Federal Register of January 2, 2008, in FR Doc. E7-25306, on page 90, beginning in the second column, first line, second bullet point of the ADDRESSES section, please correct this section by removing the words, “Office of Trade” and adding, in its place, “Office of International Trade”, to read:

• Mail: Border Security Regulations Branch, Office of International Trade, U.S. Customs and Border Protection, 1300 Pennsylvania Avenue, NW. (Mint Annex), Washington, DC 20229.

Dated: January 2, 2008.
Joanne Roman Stump,
Acting Director, Regulations and Disclosure Law Division, Regulations and Rulings, Office of International Trade.

[FR Doc. E8-50 Filed 1-7-08; 8:45 am]

BILLING CODE 9111-14-P